DEPARTMENT OF THE TREASURY

Agency Information Collection Activities; Submission for OMB Review; Comment Request; Multiple Tax and Trade Bureau Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before September 30, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Tax and Trade Bureau (TTB)

1. Title: Personnel Questionnaire—Alcohol and Tobacco Products.

OMB Control Number: 1513-0002.

Type of Review: Revision of a currently approved collection.

Description: Provisions of chapters 51 and 52 of the Internal Revenue Code (IRC, 26 U.S.C. chapters 51 and 52) and the Federal Alcohol Administration Act (FAA Act; 27 U.S.C. 201 et seq.) require persons wishing to engage in certain alcohol and tobacco activities to obtain a permit, or approval of a notice or registration, from the Secretary of the Treasury before beginning operations. The IRC and FAA Act provide that an applicant is not eligible for such permits or approvals if the Secretary finds that the applicant, (including company officers, directors, or principal investors) is not likely to lawfully operate or has certain criminal convictions. Under its delegated IRC and FAA Act authorities, the Alcohol and Tobacco Tax and Trade Bureau (TTB) regulations authorize the collection of information from applicants so that TTB can determine if they meet the minimum statutory and regulatory qualifications for alcohol and tobacco permits, notices, or registrations. To assist TTB in making such determinations, applicants use form TTB F 5000.9, Personnel Questionnaire—Alcohol and Tobacco, or its web-based Permits Online (PONL) equivalent, to provide TTB with information regarding their identity, business history and financing, and criminal record, if any.

Form: TTB F 5000.9.

Affected Public: Businesses or other for-profits.

Estimated Number of Respondents: 9,350.

Frequency of Response: On occasion.

Estimated Total Number of Annual Responses: 9,350.

Estimated Time per Response: 51 minutes.

Estimated Total Annual Burden Hours: 7,958.

2. Title: Inventory—Export Warehouse Proprietor.

OMB Control Number: 1513-0035.

Type of Review: Extension without change of a currently approved collection.

Description: In general, chapter 52 of the Internal Revenue Code (IRC, 26 U.S.C. chapter 52) imposes Federal excise tax on all tobacco products and cigarette papers and tubes manufactured in, or imported into, the United States, while exempting such articles removed for export, as well as all processed tobacco, from that tax. Export warehouses receive and store such non-taxpaid articles until they are removed without payment of tax for export to a foreign country, Puerto Rico, or the U.S. Virgin Islands, or for consumption beyond the internal revenue laws of the United States. In addition, the IRC, at 26 U.S.C. 5721, requires export warehouse proprietors to take an inventory of all tobacco products, cigarette papers and tubes, and processed tobacco on hand at the commencement of business, the conclusion of business, and at other times as the Secretary of the Treasury shall prescribe by regulation. Under that IRC authority, the Alcohol and Tobacco Tax and Trade Bureau (TTB) regulations in 27 CFR part 44 require export warehouse proprietors to make opening and closing inventories, as well as inventories at the time of certain changes in ownership and control of the business. The regulations also require export warehouse proprietors to make a special inventory when required by the appropriate TTB officer. Export warehouse proprietors report inventories on TTB F 5220.3, Inventory—Export Warehouse Proprietor. Proprietors supply one copy of the report to TTB and keep one copy at their business premises. As authorized by 26 U.S.C. 5741, the TTB regulations require proprietors to retain their copies of these inventory reports for 3 years following the close of the calendar year in which the inventory was taken, and they must make these reports available for inspection by any appropriate TTB officer upon request. TTB uses the collected information to protect the revenue. Because export warehouse proprietors hold untaxed tobacco products and cigarette papers and tubes until such articles are exported without payment of tax, transferred in bond to another export warehouse, or returned to the manufacturer, TTB uses these inventories to establish a contingent Federal excise tax liability on such articles held by a proprietor. These inventories also aid TTB in detecting diversion of untaxed articles into the taxable domestic market. In addition, inventories of processed tobacco, which is not subject to tax, help TTB detect and prevent diversion of materials used for making tobacco products to unauthorized manufacturers who would not be accountable to TTB.

Form: TTB F 5220.3.

Affected Public: Businesses or other for-profits.

Estimated Number of Respondents: 80.

Frequency of Response: On occasion.

Estimated Total Number of Annual Responses: 80.

Estimated Time per Response: 5 hours.

Estimated Total Annual Burden Hours: 400.

3. Title: Distilled Spirits Plants—Excise Taxes.

OMB Control Number: 1513-0045.

Type of Review: Extension without change of a currently approved collection.

Description: Under chapter 51 of the Internal Revenue Code (IRC), distilled spirits produced or imported into the United States are subject to Federal excise tax, which is determined at the time the spirits are withdrawn from bond and which is paid by return, subject to regulations prescribed by the Secretary of the Treasury. In addition, a credit may be taken against that tax for the portion of a distilled spirits product's alcohol content derived from wine or flavors. The Alcohol and Tobacco Tax and Trade Bureau (TTB) regulations in 27 CFR parts 19 and 26 require distilled spirits excise taxpayers to keep certain records in support of the information provided on their excise tax returns, including information on the distilled spirits removed from their premises and the products' applicable tax rates, as well as records related to nontaxable removals, shortages, and losses. The required records are necessary to protect the revenue as TTB uses the data collected to ensure the appropriate amount of tax is paid, to verify claims for refunds or remission of tax, and to account for the transfer of certain distilled spirits excise taxes to the governments of Puerto Rico and the U.S. Virgin Islands.

Form: None.

Affected Public: Businesses or other for-profits.

Estimated Number of Respondents: 3,160.

Frequency of Response: On occasion.

Estimated Total Number of Annual Responses: 43,660.

Estimated Time per Response: 1 hour.

Estimated Total Annual Burden Hours: 43,660.

4. Title: Formula for Distilled Spirits under The Federal Alcohol Administration Act.

OMB Control Number: 1513-0046.

Type of Review: Extension without change of a currently approved collection.

Description: The Federal Alcohol Administration Act (FAA Act) at 27 U.S.C. 205(e) authorizes the Secretary of the Treasury to issue regulations regarding the labeling of distilled spirits products to prevent consumer deception, to provide the consumer with adequate information as to the identity and quality of such products, and to require a statement of composition in certain cases of distilled spirits produced by blending or rectification or if neutral spirits were used in the product's production. In addition, the Internal Revenue Code (IRC) at 26 U.S.C. 5222(c), 5223, and 5232, authorizes the Secretary of the Treasury to issue regulations regarding the removal and addition of extraneous substances to distilling materials or the redistillation of domestic and imported spirits. Under those authorities, the Alcohol and Tobacco Tax and Trade Bureau (TTB) regulations in 27 CFR parts 5, 19, and 26 require proprietors to obtain TTB approval of formulas for distilled spirits products when operations such as blending, mixing, purifying, refining, compounding, or treating, change the character, composition, class, or type of the spirits. Most respondents now use TTB's Formulas Online (FONL) online system, or its paper equivalent, TTB F 5100.51, to file such formulas, but TTB continues to allow respondents to file distilled spirits formulas using the legacy form, TTB F 5110.38, which is approved under this control number. Respondents use this form to list ingredients, and, in some cases, the process used to produce the product. TTB uses the collected information to determine if a distilled spirits product meets the applicable statutory and regulatory requirements.

Form: TTB F 5110.38.

Affected Public: Businesses or other for-profits.

Estimated Number of Respondents: 50.

Frequency of Response: On occasion.

Estimated Total Number of Annual Responses: 50.

Estimated Time per Response: 1 hour.

Estimated Total Annual Burden Hours: 50.

5. Title: Stills: Notices, Registration, and Records.

OMB Control Number: 1513-0063.

Type of Review: Extension without change of a currently approved collection.

Description: The Internal Revenue Code (IRC), at 26 U.S.C. 5101 and 5179, allows the Secretary of the Treasury to issue regulations to require manufacturers of stills to submit notices regarding the manufacture and setup of stills, and it requires all persons who possess or have custody of a still to register it with the Secretary and provide information as to its location, type, capacity, ownership, and the purpose for which it will be used. Under those authorities, the Alcohol and Tobacco Tax and Trade Bureau (TTB) regulations in 27 CFR part 29 require still manufacturers to provide certain notices and keep certain records regarding the manufacture and setup of stills. Those regulations also require still owners to register their stills with TTB and provide certain notices and keep certain records regarding such registrations and changes in ownership or location of stills. The required information is necessary to protect the revenue as TTB uses the information to identify persons who possess stills used to produce distilled spirits, which are, in general, subject to Federal excise tax under the IRC.

Form: None.

Affected Public: Businesses or other for-profits.

Estimated Number of Respondents: 10.

Frequency of Response: On occasion.

Estimated Total Number of Annual Responses: 40.

Estimated Time per Response: 1 hour.

Estimated Total Annual Burden Hours: 40.

6. Title: Records of Operations—Manufacturer of Tobacco Products or Processed Tobacco.

OMB Control Number: 1513-0068.

Type of Review: Extension without change of a currently approved collection.

Description: The Internal Revenue Code (IRC) at 26 U.S.C. 5741 requires manufacturers of tobacco products, cigarette papers or tubes, or processed tobacco to keep records, subject to Government inspection, as the Secretary of the Treasury prescribes by regulation. Under that authority, the Alcohol and Tobacco Tax and Trade Bureau (TTB) regulations in 27 CFR part 40 require such manufacturers to keep daily records regarding raw materials received and products manufactured, removed, returned, consumed, transferred, destroyed, lost, or disclosed as shortages. Those regulations provide that manufacturers may use usual and customary commercial records, where possible, to keep and maintain the required data, provided that TTB may readily ascertain the information. Also, manufacturers must maintain the required records for 3 years and make them available for TTB inspection upon request. This information collection is necessary to protect the revenue as it provides accountability over the receipt, production, and disposition of taxable tobacco products and cigarette papers and tubes, and over processed tobacco that, while not subject to tax, may be diverted to the illegal manufacture of taxable tobacco products.

Form: None.

Affected Public: Businesses or other for-profits.

Estimated Number of Respondents: 235.

Frequency of Response: Annually.

Estimated Total Number of Annual Responses: 235.

Estimated Time per Response: 2 hours.

Estimated Total Annual Burden Hours: 470.

7. Title: Tobacco Export Warehouse—Record of Operations.

OMB Control Number: 1513-0070.

Type of Review: Extension without change of a currently approved collection.

Description: In general, chapter 52 of the Internal Revenue Code (IRC, 26 U.S.C. chapter 52) imposes Federal excise tax on all tobacco products and cigarette papers and tubes manufactured in, or imported into, the United States, while exempting such articles removed for export, as well as all processed tobacco, from that tax. Export warehouses receive and store such non-taxpaid articles until they are removed without payment of tax for export to a foreign country, Puerto Rico, or the U.S. Virgin Islands, or for consumption beyond the internal revenue laws of the United States. To protect the revenue, the IRC at 26 U.S.C. 5741 requires tobacco industry members, including export warehouse proprietors, to keep records as the Secretary of the Treasury prescribes by regulation. Under that IRC authority, the Alcohol and Tobacco Tax and Trade Bureau (TTB) regulations in 27 CFR part 44 require export warehouse proprietors to keep records showing the date, kind, quantity, and manufacturer of all tobacco products, cigarette papers and tubes, and processed tobacco received, removed, transferred, destroyed, lost, or returned to the manufacturer or to a customs bonded warehouse proprietor. The required records are necessary to protect the revenue as they allow transactions involving non-taxpaid articles to be traced and verified to ensure that no Federal excise tax liabilities were incurred through the diversion of such articles to taxable uses.

Form: None.

Affected Public: Businesses or other for-profits.

Estimated Number of Respondents: 80.

Frequency of Response: Annually.

Estimated Total Number of Annual Responses: 80.

Estimated Time per Response: 0 hours. The burden consists only of customary and usual business practices.

Estimated Total Annual Burden Hours: 0.

8. Title: Applications and Notices—Manufacturers of Nonbeverage Products.

OMB Control Number: 1513-0072.

Type of Review: Extension without change of a currently approved collection.

Description: In general, the Internal Revenue Code (IRC) at 26 U.S.C. 5001 imposes Federal excise tax on each proof gallon of distilled spirits produced in or imported into the United States. However, under the IRC at 26 U.S.C. 5111-5114, persons using distilled spirits to produce certain nonbeverage products (medicines, medicinal preparations, food products, flavors, flavoring extracts, or perfume) may claim drawback (refund) of all but $1.00 per proof gallon of the Federal excise tax paid on the distilled spirits used to make such products, subject to regulations issued by the Secretary “to secure the Treasury against frauds.” Under those IRC authorities, the Alcohol and Tobacco Tax and Trade Bureau (TTB) regulations in 27 CFR part 17 require manufacturers to submit certain applications and notices to TTB regarding their use of distilled spirits in the production of nonbeverage products eligible for drawback. The required applications, which require TTB approval, cover nonbeverage activities that present significant jeopardy to the revenue, while the required notices, which do not require TTB approval, cover activities that present less jeopardy to the revenue. This information collection is necessary to protect the revenue as it helps prevent diversion of distilled spirits to beverage use and ensures that nonbeverage product activities comply with the law and TTB regulations.

Form: None.

Affected Public: Businesses or other for-profits.

Estimated Number of Respondents: 350.

Frequency of Response: On occasion.

Estimated Total Number of Annual Responses: 700.

Estimated Time per Response: 30 minutes.

Estimated Total Annual Burden Hours: 350.

9. Title: Records of Things of Value to Retailers, and Occasional Letter Reports from Industry Members Regarding Information on Sponsorships, Advertisements, Promotions, etc., under the FAA Act.

OMB Control Number: 1513-0077.

Type of Review: Extension without change of a currently approved collection.

Description: The Federal Alcohol Administration Act (FAA Act) at 27 U.S.C. 205 generally prohibits alcohol beverage producers, importers, or wholesalers from offering inducements to alcohol retailers—giving things of value or conducting certain types of advertisements, promotions, or sponsorships—unless such an action is specifically exempted by regulation. Under that FAA Act authority, the Alcohol and Tobacco Tax and Trade Bureau (TTB) regulations in 27 CFR part 6, “Tied-House,” describe exceptions to the general FAA Act prohibition on offering inducements to retailers and also describe things that are considered to be “things of value” for purposes of determining whether an inducement has been offered. Among other provisions, those regulations require alcohol beverage industry members to keep records concerning things of value furnished to retailers, identifying the item and the retailer receiving it, along with the industry member's cost and any charges to the retailer for the item. Industry members may use usual and customary business records to satisfy that recordkeeping requirement, and such records must be retained for 3 years, available for TTB inspection. In addition, the part 6 regulations provide that TTB may require, as part of a trade practice investigation, a letterhead report from an alcohol industry member regarding any advertisements, promotions, sponsorships, or other activities conducted by, on behalf of, or benefiting the industry member. This information collection is necessary to detect and prevent unfair trade practices as defined by the FAA Act, and ensure compliance with the Act's trade practice exceptions and limitations.

Form: None.

Affected Public: Businesses or other for-profits.

Estimated Number of Respondents: 59,950.

Frequency of Response: On occasion.

Estimated Total Number of Annual Responses: 59,950.

Estimated Time per Response: 8 hours for occasional letter reports, 0 hours for records of things of value.

Estimated Total Annual Burden Hours: 80.

10. Title: Application for Permit to Manufacture or Import Tobacco Products or Processed Tobacco or to Operate an Export Warehouse and Applications to Amend Such Permits.

OMB Control Number: 1513-0078.

Type of Review: Extension without change of a currently approved collection.

Description: The Internal Revenue Code (IRC) at 26 U.S.C. 5712 and 5713 requires that importers and manufacturers of tobacco products or processed tobacco and export warehouse proprietors apply for and obtain a permit before engaging in such operations, or at such other times, as the Secretary of the Treasury may prescribe by regulation. In addition, 26 U.S.C. 5712 sets forth certain circumstances under which a permit application may be denied, such as if the applicant, including any corporate officer, director, or principle stockholder, is ineligible to obtain a permit by reason of business experience, financial standing, or certain criminal convictions. Under those IRC authorities, the Alcohol and Tobacco Tax and Trade Bureau (TTB) regulations in 27 CFR parts 40, 41, and 44 require tobacco industry members to submit applications using the prescribed TTB forms for new permits or, under certain circumstances, amended permits. Applicants use those forms and any required supporting documents to identify themselves and their business, along with its location, organization, financing, and major investors. Once TTB issues a permit, the permittee must retain a copy of their application package for as long as they continue in business, available for TTB inspection upon request. This information collection is necessary to protect the revenue by ensuring that only persons eligible the law are provided a permit to engage in such tobacco-related businesses.

Form: None.

Affected Public: Businesses or other for-profits.

Estimated Number of Respondents: 470.

Frequency of Response: On occasion.

Estimated Total Number of Annual Responses: 470.

Estimated Time per Response: Varies from 1-2 hours per response.

Estimated Total Annual Burden Hours: 630.

11. Title: Distilled Spirits Plant Equipment and Structures.

OMB Control Number: 1513-0080.

Type of Review: Extension without change of a currently approved collection.

Description: The Internal Revenue Code (IRC) at 26 U.S.C. 5178 and 5180 authorizes the Secretary of the Treasury to issue regulations regarding the location, construction, and arrangement of distilled spirits plants (DSPs), the identification of DSP structures, equipment, pipes, and tanks, and the posting of an exterior sign at their place of business. The IRC at 26 U.S.C. 5206 also requires DSP proprietors to mark containers of distilled spirits, subject to regulations prescribed by the Secretary. The Alcohol and Tobacco Tax and Trade Bureau (TTB) regulations concerning the identification of DSP plants, equipment, structures, and bulk containers are contained in 27 CFR part 19. Those regulations describe the exterior identification sign required at DSPs and the identification signs or marks on DSP structures, cookers, fermenters, stills, tanks, and other major equipment. The regulations also require tank cars and tank trucks used by DSPs as bulk conveyances for distilled spirits to be permanently and legibly marked with identifying information and capacity. The information set forth under this information collection is necessary to protect the revenue and facilitate inspections, as TTB uses the required signs and marks to identify the location, use, and capacity of a DSP's structures, equipment, and conveyances.

Form: None.

Affected Public: Businesses or other for-profits.

Estimated Number of Respondents: 3,160.

Frequency of Response: On occasion.

Estimated Total Number of Annual Responses: 3,160.

Estimated Time per Response: 0 hours. The burden consists only of customary and usual business practices.

Estimated Total Annual Burden Hours: 0.

12. Title: Labeling of Sulfites in Alcohol Beverages.

OMB Control Number: 1513-0084.

Type of Review: Extension without change of a currently approved collection.

Description: The U.S. Food and Drug Administration (FDA) has determined that sulfating agents are human allergens that can have serious health implications for persons who are allergic to sulfites, particularly asthmatics, and, as a result, FDA regulations require food labels to declare the presence of sulfites if there are 10 parts per million (ppm) or more of a sulfating agent in a finished food product. Under the Federal Alcohol Administration Act (FAA Act) at 27 U.S.C. 205(e), the Secretary of the Treasury is authorized to issue regulations requiring alcohol beverage labels to provide “adequate information” to consumers regarding the identity and quality of such products. Under that FAA Act authority and consistent with FDA's food labeling requirements, the Alcohol and Tobacco Tax and Trade Bureau (TTB) alcohol beverage labeling regulations in 27 CFR part 4 (wine), part 5 (distilled spirits), and part 7 (beer) require a declaration of sulfites on the labels of alcohol beverages released from domestic bottling premises or customs custody when sulfites are present in such products at levels of 10 or more ppm. This label disclosure is necessary to protect sulfite-sensitive consumers from products that potentially could be harmful to them.

Form: None.

Affected Public: Businesses or other for-profits.

Estimated Number of Respondents: 24,700.

Frequency of Response: On occasion.

Estimated Total Number of Annual Responses: 24,700.

Estimated Time per Response: 40 minutes.

Estimated Total Annual Burden Hours: 16,476.

Authority: 44 U.S.C. 3501 et seq.

Dated: August 26, 2019.
Spencer W. Clark,
Treasury PRA Clearance Officer.

[FR Doc. 2019-18718 Filed 8-28-19; 8:45 am]

BILLING CODE 4810-31-P